DEPARTMENT OF HEALTH AND HUMAN SERVICES

Administration for Children and Families

Office of Refugee Resettlement

AGENCY: Office of Refugee Resettlement, ACF, HHS.

ACTION: Notice of a Noncompetitive Successor Award to Center for Community Development for New Americans Grant Number 90Z10057.

CDFA#: 93.576.

Legislative Authority: Section 412(c)(1)(A) of the Immigration and Nationality Act (INA) 8 U.S.C. 1522(c)(1)(A) authorizes the ORR Director “to make grants to, and enter into contracts with, public or private nonprofit agencies for projects specifically designed—(i) To assist refugees in obtaining the skills which are necessary for economic self-sufficiency, including projects for job training, employment services, day care, professional refresher training, and other recertification services; (ii) to provide training in English where necessary (regardless of whether the refugees are employed or receiving cash or other assistance, and (iii) to provide where specific needs have been shown and recognized by the Director, health (including mental health) services, social services, educational and other services.” In addition, section 412(a)(4)(A)(i) of the INA 8 U.S.C. 1522(a)(4)(A)(i) authorizes the Director to make loans for the purpose of carrying out this section.

Amount of Award: Remainder of current budget period February 1, 2009, through September 29, 2009; Award is $286,458. Final budget period of the originally approved five-year project period through September 29, 2010; Annual Amount $300,000.

Projected Period: February 1, 2009-September 29, 2010.

SUMMARY: In FY 2005, ORR awarded a competitive service grant for the Individual Development Account (IDA) Program grant to New York Association for New Americans, Inc. (NYANA) in New York, NY. The original project was from September 29, 2005, through September 30, 2010. NYANA served as the fiscal sponsor and legal entity of the approved project. As of February 1, 2009, NYANA has ceased operations of the Individual Development Account program. NYANA has requested ORR permission for the Center for Community Development for New Americans (CCDNA) to assume the grant. CCDNA has agreed to this request. The effect of this deviation request is to transfer the grant from the initial grantee to a new grantee with all the responsibilities of managing and implementing the project for the remainder of the grant period.

Contact Information: Ronald Munia, Director, Division of Community Resettlement, Office of Refugee Resettlement, 370 L'Enfant Promenade, SW., Washington, DC 20447. Telephone (202) 401-4559. E-mail: Ronald.munia@acf.hhs.gov.

Dated: April 30, 2009.
Ronald Munia,
Director, Division of Community Resettlement, Office of Refugee Resettlement.

[FR Doc. E9-11961 Filed 5-21-09; 8:45 am]

BILLING CODE P